DEPARTMENT OF HEALTH AND HUMAN SERVICES

Centers for Disease Control and Prevention

[60Day-18-18JC; Docket No. CDC-2017-0121]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other Federal agencies the opportunity to comment on a proposed and/or continuing information collection, as required by the Paperwork Reduction Act of 1995. This notice invites comment on a proposed information collection project titled Women's Health Needs Study: The Health of U.S.-Resident Women from Countries with Prevalent Female Genital Mutilation/Cutting (FGM/C).

DATES: CDC must receive written comments on or before May 21, 2018.

ADDRESSES: You may submit comments, identified by Docket No. CDC-2017-0121 by any of the following methods:

• Federal eRulemaking Portal: Regulations.gov. Follow the instructions for submitting comments.

• Mail: Leroy A. Richardson, Information Collection Review Office, Centers for Disease Control and Prevention, 1600 Clifton Road NE, MS-D74, Atlanta, Georgia 30329.

Instructions: All submissions received must include the agency name and Docket Number. CDC will post, without change, all relevant comments to Regulations.gov.

Please note: Submit all comments through the Federal eRulemaking portal (regulations.gov) or by U.S. mail to the address listed above.

FOR FURTHER INFORMATION CONTACT: To request more information on the proposed project or to obtain a copy of the information collection plan and instruments, contact Leroy A. Richardson, Information Collection Review Office, Centers for Disease Control and Prevention, 1600 Clifton Road NE, MS-D74, Atlanta, Georgia 30329; phone: 404-639-7570; Email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

5. Assess information collection costs.

Proposed Project

Women's Health Needs Study: The Health of U.S.-Resident Women from Countries with Prevalent Female Genital Mutilation/Cutting (FGM/C)—New—National Center for Chronic Disease Prevention and Health Promotion (NCCDPHP), Centers for Disease Control and Prevention (CDC).

Background and Brief Description

Female Genital Mutilation/Cutting (FGM/C) is a practice common in many countries in parts of Asia, Africa and the Middle East that can have severe, deleterious health consequences for women and girls. Recent studies suggest that more than 500,000 women and girls in the United States may have been cut or be at risk for FGM/C based on whether women or their mothers are from countries with high prevalence of FGM/C. However, this estimate was derived using indirect techniques that do not account for the differing characteristics of women in the country of origin versus those who have migrated to the United States, or any other factors that are likely to affect the prevalence of FGM/C. Additional major knowledge gaps regarding FGM/C in the United States include: The prevalence of FGM/C in selected communities in the United States with high concentrations of residents from countries where FGM/C is prevalent; women's attitudes about continuance of the practice; and the health characteristics and needs of women living in the United States who have experienced FGM/C or are at risk for FGM/C.

This study aims to capture information on women's history of FGM/C, their experiences with health care services, and their attitudes about continuation of the FGM/C practice. Findings from this study will be used to identify public health needs of women and communities in the United States that are affected by FGM/C, to formulate public health strategies to meet identified needs, and to inform prevention efforts.

The proposed information collection will include piloting and conducting a full-scale survey of the health experiences and needs of women who live in selected communities in the United States with high concentrations of residents from countries where FGM/C is widely practiced. The pilot study will be conducted during the first year of this project and will be used to assess the feasibility of sampling and recruiting methods for a hard-to-reach population on a sensitive topic. Based on findings from the pilot, a change request, including necessary translations, will be submitted to conduct the full study during the second and third year of this project. The full study is planned to be implemented in up to five community sites in the United States. The estimated annualized burden over the three years of this project is 311 hours.

There are no costs to respondents other than their time to participate.

Estimated Annualized Burden Hours
Type of respondents | Form name | Number of respondents | Number of responses per respondent | Average burden per response (in hours) | Total burden (in hours)
Women age 18 to 49 who were born in, or whose mother was born in, an FGM/C practicing country | WHNS Eligibility Screener | 667 | 1 | 1/60 | 11
Women age 18-49 who were born in, or whose mother was born in, an FGM/C practicing country | WHNS Questionnaire | 400 | 1 | 45/60 | 300
Total |  |  |  |  | 311

Leroy A. Richardson,
Chief, Information Collection Review Office, Office of Scientific Integrity, Office of the Associate Director for Science, Office of the Director, Centers for Disease Control and Prevention.

[FR Doc. 2018-05594 Filed 3-19-18; 8:45 am]

BILLING CODE 4163-18-P